DEPARTMENT OF HEALTH AND HUMAN SERVICES

Centers for Disease Control and Prevention

[60Day-03-55]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: AIDS Prevention Surveillance Project Reports OMB No. 0920-0208—Extension—National Center for HIV, STD, and TB Prevention (NCHSTP), Centers for Disease Control and Prevention.

CDC proposes to continue the collection of data for the AIDS Prevention and Surveillance Project Reports, OMB No. 0920-0208, for an additional 3 years. This request is for a 3-year extension. There are currently 65 cooperative agreements for HIV prevention projects (50 states, 6 cities, 7 territories, Washington, DC, and Puerto Rico) and 54 community based organizations to support HIV counseling, testing, and referral programs funded by CDC. Program initiatives such as HIV counseling, testing, and referral services in STD clinics, Women's Health Centers, Drug Treatment Centers, and other health facilities have been described as a primary prevention strategy of the national HIV prevention program. The funded public health departments and community based organizations have increased the provision of HIV counseling, testing, and referral activities to those at increased risk for acquiring or transmitting HIV, as well as minority communities and women of child bearing age.

CDC is responsible for monitoring and evaluating HIV prevention programs conducted under the HIV Prevention cooperative agreements. HIV counseling, testing, and referral services are a major component of HIV prevention programs. Without data to measure the impact of HIV counseling, testing, and referral programs, HIV prevention program priorities cannot be assessed and redirected to prevent further spread of the virus in the general population. CDC needs information from all grantees describing the number of HIV tests completed for at-risk persons and the number HIV-positive test results for at-risk persons. The HIV counseling and testing report form provides a simple yet complete means to collect this information.

Public health departments will be able to use either a summary form, a scan form, or a form unique to their jurisdiction. All reporting to the CDC will take place electronically. Sixteen (16) respondents (public health departments) will use the summary data collection tool. It takes approximately 2 hours to complete the form. The respondents will complete the form 4 times each year for a total burden of 8 hours per year per project area. Thirty (30) respondents (public health departments) will use a scan form provided by CDC. Nineteen (19) respondents (public health departments) will use a form unique to their jurisdiction. It will take approximately 15 minutes for each respondent using either the scan or unique formats to transfer data to CDC electronically on a quarterly basis for a total burden per project area of 1 hour per year. Therefore, the total burden hours for collecting this data will be 49 hours. There is no cost to respondents except for their time.

Respondents | Number of respondents | Number of responses per respondent | Average burden per response (in hours) | Total burden (in hours)
Manual Form Project Areas | 16 | 4 | 2 | 128
Scan or Unique Form Project | 49 | 4 | 15/60 | 49
Total |  |  |  | 177

Dated: March 21, 2003.
Thomas Bartenfeld,
Acting Associate Director for Policy, Planning and Evaluation, Centers for Disease Control and Prevention.

[FR Doc. 03-7457 Filed 3-27-03; 8:45 am]

BILLING CODE 4163-18-P